DEPARTMENT OF COMMERCE

International Trade Administration

[A-533-809]

Certain Forged Stainless Steel Flanges from India: Rescission, in Part, of Antidumping Duty Administrative Review

AGENCY: Import Administration, International Trade Administration, Department of Commerce.

SUMMARY: On February 28, 2002, the Coalition Against Indian Flanges (“petitioners”) requested an administrative review of Bhansali Ferromet Pvt. Ltd., Echjay Forgings Limited, Isibars, Limited (“Isibars”), Panchmahal Steel, Ltd., Patheja Forgings and Auto Parts, Ltd., and Viraj Forgings, Ltd. The Department initiated the review on March 27, 2002 (see Initiation of Antidumping and Countervailing Duty Administrative Reviews and Requests for Revocations in Part, 67 FR 14696 (March 27, 2002)). On November 1, 2002, the Department circulated among interested parties an issues and decision memorandum for the intent to rescind the administrative review for Isibars. See Memorandum for the File From Michael Ferrier Through Richard Weible: Issues and Decision Memorandum for the Intent to Rescind the Antidumping Duty Administrative Review of Certain Forged Stainless Steel Flanges from India for Isibars, Limited (“Isibars”) (November 1, 2002) (“Isibars Memo”) (public document, on file in the Department's Central Records Unit in Room B-099). We invited interested parties to comment on the Department's intent to rescind the review with respect to Isibars and did not receive any comments. Therefore, we are rescinding this administrative review with respect to Isibars.

EFFECTIVE DATE: December 6, 2002.

FOR FURTHER INFORMATION CONTACT: Michael Ferrier, Enforcement Group III, Office 8, Import Administration, International Trade Administration, U.S. Department of Commerce, 14th Street and Constitution Avenue, NW., Room 7866, Washington, DC 20230; telephone (202) 482-1394.

The Applicable Statute

Unless otherwise indicated, all citations are to the provisions of the Tariff Act of 1930, as amended (the Act). In addition, unless otherwise indicated, all citations to the Department's regulations are to the regulations at 19 CFR part 351 (2002).

Scope of the Review

The products under review are certain forged stainless steel flanges, both finished and not finished, generally manufactured to specification ASTM A-182, and made in alloys such as 304, 304L, 316, and 316L. The scope includes five general types of stainless steel flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheadings are provided for convenience and customs purposes, the written description of the merchandise under review is dispositive of whether or not the merchandise is covered by the review.

Background

On February 28, 2002, petitioners requested an administrative review of the six companies, including Isibars. The period of review is February 01, 2001 through January 31, 2002. On April 20, 2002, the Department issued the antidumping questionnaire. On May 28, 2002, Isibars submitted its section A response to the Department's questionnaire. On June 4, 2002 the Department issued its section A supplemental questionnaire. On July 3, 2002, Isibars submitted its response to the section A supplemental questionnaire. On August 12, 2002, Isibars submitted revised versions of its sections A and C responses to the Department's original antidumping questionnaire. On August 15, 2002, the respondent submitted section D of the Department's questionnaire. On September 10, 2002, and September 17, 2002, the Department issued sections C and D supplemental questionnaires, respectively. On September 24, 2002, Isibars submitted its response to the Department's supplemental C questionnaire. On October 8, 2002, Isibars submitted its supplemental section D response. On November 1, 2002, the Department issued an issues and decision memorandum stating our intent to rescind the administrative review for Isibars. The Department circulated this memorandum among interested parties and received no comments.

Rescission, in Part, of Antidumping Administrative Review

Pursuant to 19 CFR 351.213(d)(3), the Department may rescind an administrative review, in whole or only with respect to a particular exporter or producer, if the Secretary concludes that, during the period of review, there were no entries, exports, or sales of subject merchandise. On November 1, 2002, the Department issued an issues and decision memorandum stating our intent to rescind the administrative review for Isibars in light of the information on the record that Isibars did not sell, ship, or enter the subject merchandise during the period of review (“POR”).

In our memorandum, the Department noted that since Isibars only produces the billet, and does not forge the billet into a flange, Isibars is not the producer of the subject merchandise. Additionally, Isibars stated on the record of this proceeding that it did not negotiate and fix the price of the subject merchandise with the U.S. customer. We concluded that Isibars was not an exporter of the subject merchandise during the POR. U.S. Customs data confirmed that Isibars did not have any entries of forged stainless steel flanges during the POR to the United States. In our memorandum, we recommended rescinding this administrative review with respect to Isibars since there were no sales, entries, or exports of the subject merchandise by Isibars, in accordance with section 351.213 (d)(3) of the Department's regulations. For a more detailed discussion of these points, see Isibars Memo. Since the Department has not received any comments regarding the rescission of the administrative review for Isibars, the Department is adopting the position set forth in the Isibars Memo and rescinds the administrative review of the antidumping order on certain forged stainless steel flanges with respect to Isibars for the period February 1, 2001 through January 31, 2002. The Department will issue appropriate instructions to Customs.

This notice is issued and published in accordance with section 777(i) of the Act and 19 CFR 351.213(d)(4).

Dated: November 27, 2002.
Faryar Shirzad,
Assistant Secretary for Import Administration.

[FR Doc. 02-30869 Filed 12-5-02; 8:45 am]

BILLING CODE 3510-DS-P